DEPARTMENT OF HOMELAND SECURITY

Coast Guard

49 CFR Chapter I

[USCG-2005-20052]

Potable Water on Inspected Vessels

AGENCY: Coast Guard, DHS.

ACTION: Notice of inquiry; request for information.

SUMMARY: This notice solicits public input on the amount of potable water that should be available on inspected vessels. Section 416 of the Coast Guard and Marine Transportation Act of 2004 amended 46 U.S.C. 3305 on “Scope and standards of inspection.” This amendment adds a new item to the inspection process; that is, to ensure that each inspected vessel has an adequate supply of potable water for drinking and washing by passengers and crew. The Coast Guard is considering the options for implementing the new statute and seeks public input and information on criteria to determine the amount of potable water that should be available on inspected vessels.

DATES: Information and related material must reach the Docket Management Facility on or before September 9, 2005.

ADDRESSES: You may submit information identified by Coast Guard docket number USCG-2005-20052 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on this notice, call or e-mail Mr. Craig Burch, U.S. Coast Guard Office of Design and Engineering Standards, telephone 202-267-2206, e-mail cburch@comdt.uscg.mil. If you have questions on viewing or submitting material to the docket, call Andrea M. Jenkins, Program Manager, Docket Operations, telephone 202-366-0271.

SUPPLEMENTARY INFORMATION:

Request for Information

All comments and information received will be posted, without change, to http://dms.dot.gov and will include any personal information you have provided. We have an agreement with the Department of Transportation (DOT) to use the Docket Management Facility. Please see DOT's “Privacy Act” paragraph below.

Submitting comments and information: If you submit information, please include your name and address, identify the docket number for this notice (USCG-2005-20052) and give the reason for each comment or for bringing information to our attention. You may submit your information by electronic means, mail, fax, or delivery to the Docket Management Facility at the address under ADDRESSES; but please submit your information by only one means. If you submit them by mail or delivery, submit them in an unbound format, no larger than 8½ by 11 inches, suitable for copying and electronic filing. If you submit them by mail and would like to know that they reached the facility, please enclose a stamped, self-addressed postcard or envelope. We will consider all comments and information received during the comment period.

Viewing comments and documents: To view comments, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments and information received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

Section 416 of the Coast Guard and Marine Transportation Act of 2004 amended 46 U.S.C. 3305 on “Scope and standards of inspection.” This amendment adds a new item to the inspection process; that is, to ensure that each inspected vessel has an adequate supply of potable water for drinking and washing by passengers and crew. The Coast Guard seeks public input and information on criteria that could be used to determine an adequate supply of potable water on inspected vessels. In this case, inspected vessels include ships, manned barges, and Mobile Offshore Drilling Units. Factors that will be used to determine an adequate supply are:

• The size and type of vessel;

• The number of passengers and crew on board;

• The duration and routing of voyages; and

• Guidelines for potable water recommended by the Centers for Disease Control and Prevention and the Public Health Service.

Through this notice, the Coast Guard asks for comments and information related to the following questions:

• What other factors should be considered in determining the amount of potable water that should be available on a vessel?

• What design practices and policies are used for potable water systems on vessels?

• Are periodic water tests conducted on U.S. vessels to determine continued potability?

• What protocols or test methods are being used and who is conducting the testing?

• What industry standards could be applied to the design and testing of potable water systems on vessels?

• Should the Coast Guard consider incorporating the International Organization for Standardization (ISO)standards 15748-1 on Ships and marine technology—Potable water supply on ships and marine structures—Part 1: Planning and Design and 15748-2 on Ships and marine technology—Potable water supply on ships and marine structures—Part 2: Method of calculation?

ISO standards 15748-1 and 15748-2 have not been put into the public docket because they are protected by copyright. These standards are available for purchase through the International Organization for Standardization, 1, rue de Varembé, Case postale 56, CH-1211 Geneva 20, Switzerland. These standards may also be viewed at U.S. Coast Guard Headquarters. Please call or e-mail Mr. Craig Burch, U.S. Coast Guard Office of Design and Engineering Standards, telephone 202-267-2206, e-mail cburch@comdt.uscg.mil to schedule an appointment.

Authority: 46 U.S.C. 3305, 46 U.S.C. 3306, Department of Homeland Security Delegation No. 0170.1.

Dated: June 27, 2005.
Howard L. Hime,
Acting Director of Standards, Marine Safety, and Environmental Protection.

[FR Doc. 05-13074 Filed 7-8-05; 8:45 am]

BILLING CODE 4910-15-P